DEPARTMENT OF COMMERCE

National Oceanic and Atmospheric Administration

RIN 0648-XA295

Fisheries of the Exclusive Economic Zone Off Alaska; Application for an Exempted Fishing Permit

AGENCY: National Marine Fisheries Service (NMFS), National Oceanic and Atmospheric Administration (NOAA), Commerce.

ACTION: Notice; public comment on an application for exempted fishing permit.

SUMMARY: This notice announces receipt of an application and the public comment period for an exempted fishing permit (EFP) from Mr. John Gauvin of Gauvin and Associates, LLC. If granted, this permit would allow the applicant to continue the development and testing of a salmon excluder device for the Bering Sea pollock trawl fishery. This activity is intended to promote the objectives of the Fishery Management Plan for Groundfish of the Bering Sea and Aleutian Islands Management Area (FMP) by reducing salmon bycatch in the Bering Sea pollock trawl fishery.

DATES: Written comments must be received by 5 p.m. A.l.t. April 27, 2011. Interested persons may comment on the EFP application and on the environmental assessment during the North Pacific Fishery Management Council (Council) March 28 through April 5, 2011, meeting in Anchorage, AK.

ADDRESSES: The Council meeting will be held at the Hilton Hotel, 500 West Third Ave., Anchorage, AK. Send comments to Galen Tromble, Acting Assistant Regional Administrator, Sustainable Fisheries Division, Alaska Region, NMFS, Attn: Ellen Sebastian. You may submit comments, identified by “RIN 0648-XA295,” by any one of the following methods:

• Electronic Submissions: Submit all electronic public comments via the Federal eRulemaking Portal Web site at http://www.regulations.gov.

• Mail: P.O. Box 21668, Juneau, AK 99802.

• Fax: 907-586-7557.

• Hand delivery to the Federal Building: 709 West 9th Street, Room 420A, Juneau, AK.

All comments received are a part of the public record and will generally be posted to http://www.regulations.gov without change. All Personal Identifying Information (e.g., name, address) voluntarily submitted by the commenter may be publicly accessible. Do not submit Confidential Business Information or otherwise sensitive or protected information.

Copies of the EFP application and the environmental assessment (EA) are available from the Alaska Region, NMFS Web site at http://www.alaskafisheries.noaa.gov.

FOR FURTHER INFORMATION CONTACT: Mary Grady, 907-586-7228.

SUPPLEMENTARY INFORMATION: NMFS manages the domestic groundfish fisheries in the Bering Sea and Aleutian Islands Management Area (BSAI) under the FMP. The Council prepared the FMP under the Magnuson-Stevens Fishery Conservation and Management Act. Regulations governing the groundfish fisheries of the BSAI appear at 50 CFR parts 600 and 679. The FMP and the implementing regulations at §§ 600.745(b) and 679.6 authorize issuance of EFPs to allow fishing that would otherwise be prohibited. Procedures for issuing EFPs are contained in the implementing regulations.

NMFS received an application for an EFP from Mr. Gauvin in November 2010. The purposes of the EFP project would be to improve the performance of the salmon excluder device developed under EFP 08-02 from 2008 to 2010, and to validate the performance of this device for pollock trawl gear used in the BSAI. Focused efforts of the EFP project would be on using an excluder device to reduce chum salmon bycatch and refinement to the Chinook salmon excluder device. The goal is to develop a device for pollock trawl gear that reduces salmon bycatch without significantly lowering catch rates of pollock.

The EFP would allow for development and testing of the salmon excluder device from August 2011 through November 2012, for several weeks in each pollock A and B season. Testing in each season would allow the device to be used under salmon occurrence and pollock fishing practices specific to each season. Testing in the A season would catch primarily Chinook salmon and roe-bearing pollock, while testing in the B season would catch Chinook and chum salmon and pollock that are not likely to be roe-bearing. EFP fishing would be conducted by one to two vessels in each season.

To test the salmon excluder device, exemptions would be necessary from regulations for salmon bycatch management, observer requirements, closure areas, and total allowable catch amounts (TACs) for groundfish. The taking of salmon during the experiment is crucial for determining the effectiveness of the device. Salmon taken during the experiment would not be counted toward the Chinook and chum salmon bycatch limits under § 679.21(e)(1)(vii) and f(2). The amount of chum salmon bycatch by the pollock trawl industry during the EFP period could potentially approach or exceed the chum salmon bycatch limits under § 679.21(e). If the EFP chum salmon were counted toward the chum salmon bycatch limits, the EFP salmon may create an additional burden on the pollock trawl fishermen not participating in the intercooperative agreement for chum salmon bycatch reduction by causing earlier closures of the Chum Salmon Savings Area. More information regarding the intercooperative agreement for salmon bycatch reduction is at 72 FR 61070 (October 29, 2007). Information regarding Amendment 91 for Bering Sea Chinook salmon bycatch management is at 75 FR 53026, August 30, 2010.

Approximately 2,500 chum salmon and 125 Chinook salmon for each B season and 125 chum salmon and 600 Chinook salmon for one A season would be required to support the project. In total, the applicant would be limited to harvesting 5,125 chum salmon and 850 Chinook salmon for the time period of the EFP. The experimental design requires this quantity of salmon to ensure statistically valid results.

The applicant also has requested an exemption from the Chum Salmon Savings Area (§§ 679.21(e)(7)(vii) and 679.22(a)(10)), the Bering Sea Pollock Restriction Area (§ 679.22(a)(7)(ii)), and the Steller Sea Lion Conservation Area (§ 679.22(a)(7)(vii)). These overlapping areas occur in locations of salmon concentration. The experiment must be conducted in areas of salmon concentration sufficient to ensure a statistically adequate sample size. These locations are ideal for conducting the experiment and ensuring that the vessel encounters sufficient concentrations of salmon and pollock for meeting the experimental design.

Groundfish taken under the EFP would be exempt from the TACs specified in the annual harvest specifications (§ 679.20). A total of 2,500 metric tons (mt) of groundfish (primarily pollock) would be taken during each season of the EFP for a total of 7,500 mt over the duration of the EFP. Approximately 98 percent of the groundfish harvested is expected to be pollock. The experimental design requires this quantity of pollock to ensure a statistically adequate sample size for measuring pollock escapement through the salmon excluder device. The EFP pollock harvest would not be included in the harvest applied against the Bering Sea groundfish TACs, including the 2011 pollock TAC of 1,266,400 mt and 2012 pollock TAC of 1,253,658 mt. The acceptable biological catches (ABC) for Bering Sea pollock in 2011 and 2012 are 1,270,000 mt and 1,600,000 mt, respectively. Because of very little groundfish incidental catch in the pollock fishery, the harvest of other fish species during the EFP fishing is expected to be 25 mt to 75 mt per season. The majority of these other species harvested under the EFP likely would be Pacific cod, skates, flatfish, halibut, and jellyfish. The amount of groundfish harvest under the EFP and by the commercial groundfish fisheries is not expected to exceed the ABCs for groundfish species in either 2011 or 2012.

Using a catcher/processor for the EFP study would require exemption from the Catcher Vessel Operating Area (CVOA) restriction (§ 679.22(a)(5)) because of the location of the Chinook salmon concentration in the CVOA. Catcher/processors are prohibited from operating in the CVOA during the B season. The EFP fishing may be done by either a catcher vessel or a catcher/processor. It may be necessary for the EFP applicant to use a catcher/processor to conduct tows in this area to ensure encountering sufficient pollock and salmon concentrations to meet the experimental design.

The EFP would include an exemption from the observer requirements at § 679.50. The applicants would use “sea samplers” who are NMFS-trained observers. They would not be deployed as NMFS observers, however, at the time of the EFP fishing. The “sea samplers” would conduct the EFP data collection and perform other observer duties that normally would be required for vessels directed fishing for pollock.

The activities under the EFP are not expected to have a significant impact on the human environment as analyzed in the EA for this action (see ADDRESSES). The EFP would be subject to modifications pending any new relevant information regarding the 2012 fishery, including pollock harvest specifications.

In accordance with § 679.6, NMFS has determined that the proposal warrants further consideration and has forwarded the application to the Council to initiate consultation. The Council will consider the EFP application during its March 28 through April 5, 2011 meeting, which will be held at the Hilton Hotel in Anchorage, AK. The applicant has been invited to appear in support of the application.

Public Comments

Public comments are being solicited on the application and the EA through the end of the comment period stated in this notice. To be considered, comments must be received by 5 p.m. A.L.T. on the last day of the comment period; that does not mean postmarked or otherwise transmitted by that date. Copies of the application and EA are available for review from NMFS (see ADDRESSES). Interested persons also may comment on the application and on the EA at the March/April 2011 Council meeting during public testimony.

Information regarding the meeting is available at the Council's Web site at http://www.alaskafisheries.noaa.gov/npfmc/.

Authority: 16 U.S.C. 1801 et seq.

Dated: March 23, 2011.
Margo Schulze-Haugen,
Acting Director, Office of Sustainable Fisheries, National Marine Fisheries Service.

[FR Doc. 2011-7240 Filed 3-25-11; 8:45 am]

BILLING CODE 3510-22-P